NUCLEAR REGULATORY COMMISSION

[NRC-2010-0287]

Notice of Issuance of Regulatory Guide

AGENCY: Nuclear Regulatory Commission.

ACTION: Notice of Issuance and Availability of Regulatory Guide 8.2, Revision 1, “Administrative Practices in Radiation Surveys and Monitoring.”

FOR FURTHER INFORMATION CONTACT: Harriet Karagiannis, U.S. Nuclear Regulatory Commission, Washington, DC 20555-0001, telephone: (301) 251-7477 or e-mail Harriet.Karagiannis@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Proposed revision 1 of Regulatory Guide 8.2, “Administrative Practices in Radiation Surveys and Monitoring,” was issued with a temporary identification as Draft Regulatory Guide, DG-8035 on August 30, 2010 (75 FR 52996). This guidance sets forth the NRC staff's views of acceptable administrative practices associated with surveys and monitoring of radiation arising from NRC licensed activities. This guidance is intended primarily for NRC licensee administrative and management personnel that are involved in, or are planning to initiate, activities involving the handling of radioactive materials or exposure to radiation.

The administrative requirements for surveys and monitoring of radiation are specified in Title 10, of the Code of Federal Regulations, part 20, “Standards for Protection against Radiation” (10 CFR part 20), and are applicable to all NRC-licensed activities. Part 20 requires surveys in order to evaluate the significance of radiation levels that may be present. In addition, part 20 requires radiation monitoring in order to obtain measurements for the evaluation of potential exposures and doses.

II. Further Information

On August 30, 2010, DG-8035 was published with a request for public comments (75 FR 52996). The public comment period closed on October 29, 2010. Electronic copies of Regulatory Guide 8.2, Revision 1 are available through the NRC's public Web site under “Regulatory Guides” at http://www.nrc.gov/reading-rm/doc-collections/and through the NRC's Agencywide Documents Access and Management System (ADAMS) at http://www.nrc.gov/reading-rm/adams.html, under ADAMS Accession No. ML110460093. The regulatory analysis may be found in ADAMS under Accession No. ML110460099. Staff's responses to public comments on DG-8035 are available under ML110460108.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at 301-415-4737 or 800-397-4209, by fax at 301-415-3548, and by e-mail to pdr.resources@nrc.gov.

Regulatory guides are not copyrighted, and NRC approval is not required to reproduce them.

Dated at Rockville, Maryland, this 17th day of May, 2011.
For the Nuclear Regulatory Commission.
Thomas H. Boyce,
Chief, Regulatory Guide Development Branch, Division of Engineering, Office of Nuclear Regulatory Research.

[FR Doc. 2011-13359 Filed 5-27-11; 8:45 am]

BILLING CODE 7590-01-P